DEPARTMENT OF THE INTERIOR

Bureau of Land Management

[AK-023-03-1310-PB-018L-241A]

National Petroleum Reserve—Alaska Research and Monitoring Advisory Team (RMT) Public Meeting

AGENCY: Northern Field Office, Bureau of Land Management, Interior.

ACTION: Notice of the National Petroleum Reserve—Alaska Research and Monitoring Advisory Team Public Meeting.

SUMMARY: A joint public meeting of the National Petroleum Reserve—Alaska Research and Monitoring Advisory Team and the NPR-A Subsistence Advisory Panel (SAP) will be held in Barrow, Alaska, on March 18-19, 2003, to discuss research and monitoring needs in the NPR-A and to make recommendations to the Authorized Officer on priority projects to be implemented by the BLM. This will also be the first joint meeting of the RMT and SAP as stipulated in the charter of the RMT.

DATES: The public meeting will be held at the Iñupiat Heritage Center in Barrow, Alaska, on March 18-19, 2003. A field trip to view a winter seismic operation is tentatively planned for March 20. Hours of the meeting have not yet been set. Please call the phone number below for a time update.

PUBLIC PARTICIPATION: This meeting is open to the public.

FOR FURTHER INFORMATION CONTACT: Additional information concerning the NPR-A Research and Monitoring Advisory Team may be obtained from Herb Brownell, Arctic Team Manager, BLM Northern Field Office, 1150 University Avenue, Fairbanks, Alaska 99709-3844. Mr. Brownell may be reached at (907) 474-2333 or at 1-800-437-7021, x2333, or at Herb_Brownell@ak.blm.gov.

SUPPLEMENTARY INFORMATION: The RMT's membership represents the BLM, Minerals Management Service, Department of Energy, U.S. Fish and Wildlife Service, U.S. Geological Survey—Biological Resources Division, the North Slope Borough, the oil and gas industry, environmental/resource conservation organizations, natural resource management/science academicians, and the public at large. The RMT advises the BLM in assessing the effectiveness and appropriateness of mitigative stipulations established in the Northeast NPR-A Integrated Activity Plan/Environmental Impact Statement, Record of Decision, 1998. The team focuses on assessing NPR-A research and monitoring needs, developing and recommending research priorities, and applying improved technology and operating practices to oil and gas exploration and development in the NPR-A.

The Subsistence Advisory Panel advises the BLM on how subsistence resources, uses, and users may be impacted by oil and gas exploration and development in the NPR-A.

Dated: January 23, 2003.
Robert W. Schneider,
Field Manager, Northern Field Office, Bureau of Land Management.

[FR Doc. 03-2153 Filed 1-29-03; 8:45 am]

BILLING CODE 4310-JA-P